DEPARTMENT OF COMMERCE

Bureau of the Census

[Docket Number 070111009-7786-02]

Census County Division and Equivalent Entities Program for the 2010 Census-Final Criteria

AGENCY: Bureau of the Census, Commerce.

ACTION: Notice of final criteria and program implementation.

SUMMARY: This Notice announces the Bureau of the Census' (Census Bureau's) final criteria for defining census county divisions (CCDs) and equivalent entities for the 2010 Census. Based on responses to the request for comments on proposed criteria published in the Federal Register of April 6, 2007 (72 FR 17324), the Census Bureau will retain CCDs as a statistical geographic entity for use in tabulating and presenting data from the decennial census, the American Community Survey (ACS), and, as appropriate, other censuses and surveys.

CCDs and equivalent entities are statistical geographic entities established cooperatively by the Census Bureau and officials of state and local governments in 22 states ¹ where minor civil divisions (MCDs) either do not exist or have been unsatisfactory for reporting census data. The primary goal of the CCD program has been to establish and maintain a set of subcounty ² units that have stable boundaries and recognizable names.

¹ In Alaska, census subareas are equivalents of CCDs. For purposes of this notice, the term “CCD” will also refer to census subareas in Alaska.

² For Census Bureau purposes, the term “county” includes parishes in Louisiana; boroughs, city and boroughs, municipalities, and census areas in Alaska; independent cities in Maryland, Missouri, Nevada, and Virginia; districts and islands in American Samoa, and districts in the U.S. Virgin Islands; municipalities in the Commonwealth of the Northern Mariana Islands; municipios in Puerto Rico; and the areas constituting the District of Columbia and Guam. This notice will refer to all of these entities collectively as “counties.”

In addition to providing final criteria for CCDs, this notice also contains a summary of comments received in response to proposed criteria published in the April 6, 2007, Federal Register (72 FR 17324), as well as both the Census Bureau's response to those comments and a description of the changes made to the criteria.

DATES: This notice's final criteria will be effective on February 8, 2008.

FOR FURTHER INFORMATION CONTACT: The Geographic Standards and Criteria Branch, Geography Division, U.S. Census Bureau, via e-mail at geo.psap.list@census.gov or telephone at (301) 763-3056.

SUPPLEMENTARY INFORMATION:

I. History

When CCDs were introduced prior to the 1950 Census, few alternatives were available for the provision of statistical data related to relatively stable, subcounty geographic units. Census tracts were defined in only a subset of metropolitan area counties. MCDs existed in all counties, but in some states, MCD boundaries changed frequently enough that they were not useful for comparing statistical data from one decade to another.

For much of the period from the 1950 Census through the 1980 Census, county subdivisions (MCDs and CCDs) provided the only subcounty unit of geography at which data users could obtain statistical data for complete coverage of counties nationwide. The introduction of block numbering areas (BNAs) in counties without census tracts for the 1990 Census offered an alternate subcounty entity for which data could be tabulated. For Census 2000, the Census Bureau introduced census tracts nationwide (in many counties, BNAs were simply relabeled as “census tracts”) and the greater dissemination of, and ability to analyze, data at the census tract level made CCDs less necessary as statistical reporting units.

II. Summary of Comments Received in Response to the Proposed Criteria

The April 6, 2007, Federal Register (72 FR 17324) notice requested comment on proposed criteria for CCDs. In addition, the Census Bureau sought comment regarding the continued identification and use of CCDs as statistical geographic areas for the tabulation, presentation, and analysis of statistical data. In raising the question of continued identification of CCDs, the Census Bureau sought to ascertain the extent to which data users still found CCDs to be useful geographic areas given that census tracts are defined nationwide, and that census tract-level statistical data are widely available and more easily manipulated using prevailing spreadsheet, database, and geographic information system software. The Census Bureau noted that it would consider eliminating CCDs as a census geographic area if commenters no longer found them to be useful for data presentation and analysis. If comments indicated continued relevance, the Census Bureau would retain CCDs.

The Census Bureau received 172 comments in response to the proposed criteria, all specifically in response to the issue of whether to retain or eliminate CCDs. Commenters represented a broad range of data users, including individual data users; local, state, and federal government agencies; nonprofit and nongovernmental organizations; and private sector organizations and companies.

The Census Bureau received 164 comments in favor of retaining CCDs, noting their continued relevance as geographic areas for data presentation and analysis. Of these, 154 comments related specifically to retaining the San Fernando Valley CCD in Los Angeles County, California. Of the other comments in favor of retaining CCDs, six were received from state departments of health, noting that data for CCDs are used for analysis and program implementation, particularly in less populated counties in which CCDs subdivide census tracts and, therefore, provide data for smaller geographic areas and populations.

Of the remaining eight comments, four were in response to a survey conducted in the San Fernando Valley, with three in favor of eliminating CCDs and one undecided. Two commenters (a national trade association and a nongovernmental policy research organization) favored elimination of CCDs, stating that as a result of nationwide availability of data for census tracts, they no longer analyzed data by CCD.

The Tennessee Office of Information Resources requested replacement of CCDs in Tennessee with county commissioner districts, commenting that the latter were more relevant to the ongoing planning and policy analysis needs of local and state government agencies. County commissioner districts in Tennessee are legal entities defined for the purpose of electing county commissioners, and are a type of legal, administrative MCD. They are redefined after each decennial census, and their boundaries generally remain stable and unchanged through the decade. When considering this request, the Census Bureau sought additional comment from data users in Tennessee, working through the Tennessee State Data Center (SDC) and its network of affiliates. Responses to the Tennessee SDC's request for comment generally favored adoption of county commissioner districts as the county subdivision type for use in tabulating and presenting Census Bureau data, and concurred with the Office of Information Resources request to replace CCDs with county commissioner districts.

In accepting Tennessee's request to switch from CCDs to county commissioner districts (a type of MCD), the Census Bureau also offers other CCD states the opportunity to replace CCDs with MCDs, provided the following conditions are met:

1. There is demonstrated support from a wide range of data users within the state for the switch from current CCDs to a legally existing county subdivision;

2. The type of MCD selected for adoption exists in all counties throughout the state and is well known or easily identifiable by data users; and

3. The type of MCD selected has relatively stable boundaries, with changes generally limited to updates or redistricting once following each census, but stable through the remainder of the decade.

The Census Bureau will consider requests from the other 21 CCD states to replace CCDs with a type of MCD, based on the conditions stated above. If the MCDs are to be used for the tabulation of data from the 2010 Census, requests must be received in writing by April 15, 2008, to provide the Census Bureau sufficient time to consult with data users in the state through the State Data Center and its network of affiliates, prepare geographic update materials, and process boundary submissions.

Changes to the Criteria From the Proposed Rule

The changes made to the final criteria (from the proposed criteria) in “Section III, General principles and criteria for CCDs for the 2010 Census” are as follows:

1. Paragraph 1 in this section appeared in Section C, “CCD Criteria for the 2010 Census,” in the previous Federal Register notice (April 6, 2007; 72 FR 17324). We have moved it to the beginning of Section III in the final criteria because the wording applies to both the general principles and delineation criteria. We removed the reference to American Indian reservations and off-reservation trust lands because these areas are, by definition, within the United States.

2. Section A, “General principles,” paragraph 3, reworded several sentences to provide greater clarity regarding the relationship between CCDs and census tracts.

3. Section A, “General principles,” paragraph 4, added three sentences to clarify North Dakota's and Tennessee's requests to use MCDs rather than CCDs for tabulating data. We made this change to note Tennessee's recent request in response to the April 6, 2007, Federal Register (72 FR 17234). The reference to North Dakota's request for the 1970 Census was added to provide an example of a state that had shifted from CCDs to MCDs.

4. Section B, “CCD Criteria for the 2010 Census,” added the first paragraph, summarizing the criteria that follow in more detail.

5. Section B, “CCD Criteria for the 2010 Census,” criteria relating to community orientation, added the words “together form a cohesive community area” to provide greater clarity.

6. Section B, “CCD Criteria for the 2010 Census,” criteria relating to visible and/or stable boundaries, changed wording in the last sentence from “permits” to “requires” that CCDs follow state, county, and census tract boundaries. This change in wording is consistent with wording elsewhere in the criteria, with the stated intent of the CCD program, and with past practice. Additional wording changes were made to improve clarity.

7. Section B, “CCD Criteria for the 2010 Census,” criteria relating to census tract boundaries, removed the reference to the Puerto Rico Community Survey because CCDs are not defined in Puerto Rico. We also deleted the requirement that new CCDs must have a minimum population of 1,200 (the minimum threshold for a census tract) because population thresholds and requirements are not consistent with the general concept of a CCD.

8. Section B, “CCD Criteria for the 2010 Census,” criteria relating to name identification, we added a requirement that the name of an existing CCD may not be changed unless a compelling reason is provided. This addition is intended to promote consistency and continuity from one census to another and avoid needless changes that may result in confusion among data users.

III. General Principles and Criteria for CCDs for the 2010 Census

The criteria outlined herein apply to the United States,³ Puerto Rico, and the Island Areas.⁴ In accordance with the final criteria, the Census Bureau may modify and, if necessary, reject any proposals for CCDs that do not meet the established criteria. In addition, the Census Bureau reserves the right to modify the boundaries and attributes of CCDs as required to maintain established geographic relationships before the final tabulation geography is set for the 2010 Census.

³ For Census Bureau purposes, the United States includes the 50 states and the District of Columbia.

⁴ For Census Bureau purposes, the Island Areas include American Samoa, the Commonwealth of the Northern Mariana Islands, Guam, the U.S. Virgin Islands, and the U.S. Minor Outlying Islands. The U.S. Minor Outlying Islands are an aggregation of nine U.S. territories: Baker Island, Howland Island, Jarvis Island, Johnston Atoll, Kingman Reef, the Midway Islands, Navassa Island, Palmyra Atoll, and Wake Island.

A. General Principles

1. The primary goal of the CCD program is to establish and maintain a set of subcounty units that have stable boundaries and recognizable names. The boundaries of CCDs usually coincide with visible features or stable, significant legal boundaries, such as the boundary of an American Indian reservation, federally managed land, or conjoint incorporated places. CCDs have no legal status as statistical geographic entities and are defined only for the tabulation and presentation of statistical data.

2. A CCD usually represents a single contiguous area consisting of one or more communities, trading centers, or, in some instances, major land uses that are relatively compact in shape.

3. A CCD shall have a relationship to existing census tracts, either encompassing one or more census tracts or having two or more CCDs nest within a single census tract. The boundaries of a CCD, or combination of nested CCDs, align with census tract boundaries. Note that a county with a population less than the optimum population for a census tract (less than 4,000 people) may contain more CCDs than census tracts. For example, McCone County, Montana, which has a 2006 estimated population of 1,760, contains only one census tract, but is divided into two CCDs.

4. Since the 1950s, the Census Bureau has worked with state and local officials to replace MCDs with CCDs for the collection, presentation, and analysis of Census Bureau data, particularly in states in which MCDs do not provide governmental services and functions, and in which MCD boundaries tend to change between decennial censuses. As of Census 2000, CCDs were defined in 22 states: Alabama, Alaska, Arizona, California, Colorado, Delaware, Florida, Georgia, Hawaii, Idaho, Kentucky, Montana, Nevada, New Mexico, Oklahoma, Oregon, South Carolina, Tennessee, Texas, Utah, Washington, and Wyoming. North Dakota adopted CCDs for use in tabulating and presenting data from the 1970 Census. Following the 1970 Census, North Dakota requested that the Census Bureau again use MCDs to tabulate and present statistical data. For the 2010 Census, Tennessee has requested that the Census Bureau replace its CCDs with county commissioner districts, a type of legal, administrative MCD.

B. CCD Criteria for the 2010 Census

CCDs must (1) have community orientation, (2) have visible and/or stable boundaries, (3) conform to census tract boundaries, and (4) have recognizable names.

1. Community Orientation

Each CCD should center on one or more places and encompass additional surrounding territory that together form a cohesive community area. The definition of community should take into account factors such as production, marketing, consumption, and the integrating factor of local institutions.

The locality on which a CCD is centered usually is an incorporated place or an unincorporated community, which might be identified as a census designated place. In some cases, the CCD may center on a major area of significantly different topography, land use, or ownership, such as a large military installation or American Indian reservation. A CCD should always comprise a reasonably compact, continuous land area, generally with road access to all areas within the CCD.

2. Visible and/or Stable Boundaries

To make the location of CCD boundaries less ambiguous, the boundaries should follow, wherever possible, visible and identifiable features. The use of visible features makes it easier to locate and identify CCD boundaries over time, as the locations of most visible features in the landscape change infrequently, making data collection easier and more reliable, while reducing the possibility for data allocation errors. The Census Bureau requires that CCDs follow state and county boundaries, conform to census tract boundaries, and allows CCDs to follow the boundaries of federally recognized American Indian reservations, and federal-, state-, or locally-managed land.

The following features are acceptable:

a. County boundaries (always a CCD boundary);

b. Census tract boundaries, which usually follow visible, perennial, natural, and cultural features, such as roads, rivers, canals, railroads, or above-ground, high-tension power lines;

c. Legally defined, federally recognized American Indian reservation boundaries;

d. The boundaries of federal-, state-, or locally-managed land, such as National Parks, National Monuments, National Forests, other types of large parks or forests, airports, marine ports, prisons, military installations, or other facilities; and

e. Conjoint city limits (in certain situations, such as city limits that change infrequently).

f. When the above types of features are not available for use as CCD boundaries, the Census Bureau may, at its discretion, approve other nonstandard, visible features, such as ridge lines, above-ground pipelines, streams, or fence lines. The Census Bureau may also accept, on a case-by-case basis, the boundaries of selected nonstandard and potentially nonvisible features, such as the boundaries of cemeteries, golf courses, glaciers, or the straight-line extensions of visible features and other lines-of-sight.

3. Census Tract Boundaries; Population Size

Whenever possible, a CCD should encompass one or more contiguous census tracts, or multiple CCDs should constitute a single census tract. Therefore, CCD boundaries should be consistent with census tract boundaries. Population size is not as important a consideration with CCDs as it is with census tracts. Historically, CCDs have ranged from a few hundred people (in selected situations) to more than one million. However, data quality and availability may be factors that local governments and planners should consider in defining statistical geographic areas. As a general rule, period estimates of demographic characteristics of small population areas from the ACS will be subject to higher variances than comparable period estimates for areas with larger populations. In addition, the Census Bureau's disclosure rules may have the effect of restricting the availability and amount of data for areas with small populations.

4. Name Identification

• The names of existing CCDs shall not be changed unless a compelling reason is provided, such as when the name from which the CCD was derived has changed, as in the case of Bainbridge Island, Washington, when the name of the city (Winslow) changed.

• A new CCD usually is named after the largest population center or historically central place within it (e.g., Taos, Chimayo, or Ohkay Owingeh, New Mexico).

• Where a CCD contains multiple centers with relatively equal importance, a CCD name may represent the two or three centers (e.g., Mount Pleasant-Moroni, Utah).

• A CCD may be named after the American Indian Reservation (e.g., Hualapai, Arizona or Nez Perce, Idaho) or a prominent land use area (e.g., Federal Reservation, Washington or Yellowstone National Park, Wyoming) in which it is partially or wholly located.

• A CCD may be named after a prominent physical feature (e.g., Mount Rainier, Washington) or a distinctive region within the county (e.g., Death Valley, California; Everglades and Lower Keys, Florida).

• If there is no clear cultural focus or topographic name that can be applied, a CCD name shall consist of the county name and a compass direction to indicate the portion of the county in the CCD or a place name and a compass direction to give the CCD location relative to the place. The directional indicator precedes a county name (e.g., Northeast Cobb, Georgia). If a place name is used, the directional indicator follows it (e.g., Del Rio Northwest, Texas).

In all cases, the objective is to clearly identify the extent of the CCD by means of an area name since CCD names always should be meaningful to data users. Any name used as a CCD name must also be recognized by the Board on Geographic Names for federal use and appear in the Geographic Names Information System maintained by the U.S. Geological Survey. This includes any individual names combined to make a hyphenated CCD name.

IV. Definitions of Key Terms

American Indian reservation—A federally recognized American Indian land area with boundaries established by final treaty, statute, executive order, and/or court order, and over which a federally recognized American Indian tribal government has governmental authority. Along with reservations, designations such as colonies, communities, pueblos, rancherias, and reserves apply to American Indian reservations.

Block group—A statistical subdivision of a census tract consisting of all census blocks whose numbers begin with the same digit in a census tract. A block group is the smallest geographic entity for which the Census Bureau normally tabulates sample data.

Census block—A geographic area bounded by visible and/or nonvisible features in the Census Bureau's Master Address File/Topologically Integrated Geographic Encoding and Referencing database. A block is the smallest geographic entity for which the Census Bureau tabulates decennial census data.

Census designated place—A statistical geographic entity with a concentration of population, housing, and commercial structures that is identifiable by name, but is not within an incorporated place.

Census tract—A small, relatively permanent statistical geographic division of a county defined for the tabulation and publication of Census Bureau data. The primary goal of the census tract program is to provide a set of nationally consistent small, statistical geographic units, with stable boundaries that facilitate analysis of data across time.

Conjoint—A description of a boundary shared by two adjacent geographic areas.

Contiguous—A description of a geographic entity having an uninterrupted outer boundary, such that it forms a single, connected piece of territory. Noncontiguous areas form separate, disconnected pieces.

Federally managed land—Territory that is federally owned and/or administered by an agency of the U.S. federal government, such as the National Park Service, Bureau of Land Management, or Department of Defense.

Incorporated place—A type of governmental unit, incorporated under state law as a city, town (except in New England, New York, and Wisconsin), borough (except in Alaska and New York), or village, generally to provide specific governmental services for a concentration of people within legally prescribed boundaries.

Minor civil division—The primary governmental or administrative division of a county in 28 states, Puerto Rico, and the Island Areas having legal boundaries, names, and descriptions. MCDs represent many different types of legal entities with a wide variety of characteristics, powers, and functions depending on the state and type of MCD. In some states, some or all of the incorporated places also constitute MCDs.

Nonvisible feature—A map feature that is not visible on the ground, such as a city or county boundary through space, a property line running through space, a short line-of-sight extension of a road to another visible feature, or a point-to-point line of sight.

Visible feature—A map feature that can be seen on the ground, such as a road, railroad track, major above-ground transmission line or pipeline, river or stream, shoreline, fence, sharply defined mountain ridge, or cliff. A nonstandard visible feature is a feature that may not be clearly defined on the ground (such as a ridge), may be seasonal (such as an intermittent stream), or may be relatively impermanent (such as a fence). The Census Bureau generally requests verification that nonstandard features pose no problem in their location during fieldwork by Census Bureau staff.

Executive Order 12866

This notice has been determined to be not significant under Executive Order 12866.

Paperwork Reduction Act

This program notice does not represent a collection of information subject to the requirements of the Paperwork Reduction Act, 44 U.S.C., Chapter 35.

Dated: February 5, 2008.
Steve H. Murdock,
Director, Bureau of the Census.

[FR Doc. E8-2348 Filed 2-7-08; 8:45 am]

BILLING CODE 3510-07-P